NUCLEAR REGULATORY COMMISSION

10 CFR Parts 20, 21, 26, 50, 70, 72, 73,74 and 76

[NRC-2011-0014; NRC-2011-0015; NRC-2011-0017; NRC-2011-0018]

RIN 3150-AI49

Enhanced Weapons, Firearms Background Checks, and Security Event Notifications; Correction

AGENCY: Nuclear Regulatory Commission.

ACTION: Final rule and guidance; correction.

SUMMARY: The U.S. Nuclear Regulatory Commission (NRC) is correcting a final rule that was published in the Federal Register on March 14, 2023, regarding its regulations to implement its authority under Section 161A of the Atomic Energy Act of 1954, as amended. This action is necessary to correct an amendatory instruction, update the section-by-section analysis, and correct a grammatical error.

DATES: The correction is effective on April 1, 2023.

ADDRESSES: Please refer to Docket IDs NRC-2011-0014, NRC-2011-0015, NRC-2011-0017, and NRC-2011-0018 when contacting the NRC about the availability of information for this action. You may obtain publicly available information related to this action by any of the following methods:

• Federal Rulemaking Website: Go to https://www.regulations.gov and search for Docket IDs NRC-2011-0014, NRC-2011-0015, NRC-2011-0017, or NRC-2011-0018. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time, Monday through Friday, except Federal holidays.

FOR FURTHER INFORMATION CONTACT: Stewart Schneider, Office of Nuclear Material Safety and Safeguards, telephone: 301-415-4123; email: Stewart.Scheider@nrc.gov; or Philip Brochman, Office of Nuclear Security and Incident Response, telephone: 301-287-3691; email: Phil.Brochman@nrc.gov. Both are staff of the U.S. Nuclear Regulatory Commission, Washington, DC 20555-0001.

SUPPLEMENTARY INFORMATION: The NRC is announcing the following corrected language in FR Doc. 2023-03944, published at 88 FR 15864 on March 14, 2023.

1. On page 15875, third column, section-by-section analysis for “Appendix B to Part 73—General Criteria for Security Personnel” is corrected to read “Appendix B is revised to clarify employment suitability for armed security personnel.”

§ 73.15 [Corrected]

2. On page 15882, third column, § 73.15(c)(1)(ii), “Gray (Gy)” is corrected to read “gray (Gy).”

Appendix B to Part 73 [Corrected]

3. On page 15898, first column, amendatory instruction 41 for appendix B to part 73 is corrected to read:

41. In appendix B to part 73, revise section I.A to read as follows:

Dated: March 23, 2023.
For the Nuclear Regulatory Commission.
Cindy K. Bladey,
Chief, Regulatory Analysis and Rulemaking Support Branch, Division of Rulemaking, Environmental, and Financial Support, Office of Nuclear Material Safety and Safeguards.

[FR Doc. 2023-06377 Filed 3-28-23; 8:45 am]

BILLING CODE 7590-01-P